DEPARTMENT OF TRANSPORTATION

Federal Railroad Administration

Environmental Impact Statement for the Link Union Station Project, Los Angeles, CA

AGENCY: Federal Railroad Administration (FRA), U. S. Department of Transportation (DOT).

ACTION: Notice of Intent (NOI) to prepare an Environmental Impact Statement (EIS).

SUMMARY: Through this NOI, FRA announces it will prepare an EIS and Environmental Impact Report (EIR) jointly with the Los Angeles County Metropolitan Transportation Authority (Metro) for the Link Union Station Project (Link US Project). FRA and Metro will develop the EIS/EIR in compliance with the National Environmental Policy Act of 1969 (NEPA), 42 U.S.C. 4321 et seq., and the California Environmental Quality Act (CEQA). FRA invites the public and Federal, state, and local agencies to provide input into the scope of the EIS and will consider all information developed during outreach activities when preparing the EIS/EIR.

DATES: Persons interested in providing written comments on the scope of the Link US Project must do so by June 30, 2016.

A Public scoping meeting is scheduled on Thursday, June 2, 2016.

ADDRESSES: Interested persons should send written comments to FRA's Office of Program Delivery, 1200 New Jersey Avenue SE., (Mail Stop 20), Washington, DC 20590, or Los Angeles County Metropolitan Transportation Authority (Metro) Headquarters, One Gateway Plaza (Mail Stop 99-13-1), Los Angeles, California, 90012, or via email to Mark Dierking, Community Relations Manager, at dierkingm@metro.net. Comments should include “Link Union Station—NOI Scoping Comments” in the subject line.

Interested persons may also provide comments orally or in writing at the scoping meeting. FRA and Metro will hold the scoping meeting between 6:00 p.m. and 8:00 p.m. at: Metro Headquarters: One Gateway Plaza, Los Angeles, California, 90012. Metro Headquarters is an Americans with Disabilities Act of 1990 (ADA) accessible facility. Spanish and Mandarin translation will be provided. You may call 213-922-2499 at least 72 hours in advance of the meeting to request other ADA accommodations or translation services.

FOR FURTHER INFORMATION CONTACT: Ms. Stephanie Perez, Environmental Protection Specialist, Office of Program Delivery, Federal Railroad Administration, 1200 New Jersey Avenue SE., (Mail Stop 20), Washington, DC 20590; Telephone: (202) 493-0388, email: stephanie.perez@dot.gov, or to Mark Dierking, Community Relations Manager, One Gateway Plaza (Mail Stop 99-13-1), Los Angeles, CA 90012; email: dierkingm@metro.net. Scoping materials and information concerning the scoping meeting is available through Metro's Web site: metro.net/projects/regionalrail/scrip.

SUPPLEMENTARY INFORMATION: FRA is an operating administration of DOT and is responsible for overseeing the safety of railroad operations, including the safety of any proposed rail ground transportation system. FRA is also authorized to provide, subject to appropriations, funding for intercity passenger and rail capital investments and to provide loans and other financial support for railroad investment. FRA may provide funding or financing for the Link US Project in the future.

FRA is the lead agency under NEPA. Metro will be the joint lead agency under NEPA and the lead state agency under CEQA. FRA and Metro will prepare the EIS/EIR consistent with NEPA, the Council on Environmental Quality (CEQ) regulations implementing NEPA in 40 CFR parts 1500-1508, and FRA's Procedures for Considering Environmental Impacts in 64 FR 28545, dated May 26, 1999 (Environmental Procedures). FRA and Metro will prepare the EIS consistent with 23 U.S.C. 139 (titled “Efficient environmental reviews for project decisionmaking”). FRA and Metro will also prepare the EIS/EIR consistent with CEQA.

The EIS will also document FRA's compliance with other applicable Federal, state, and local laws including, Section 106 of the National Historic Preservation Act (54 U.S.C. 306108), Section 4(f) of the U.S. Department of Transportation Act of 1966 (49 U.S.C. 303(c)), Section 309(a) of the Clean Air Act (42 U.S.C. 7609(a)), and Executive Order 12898 and U.S. DOT Order 5610.2(a) on Environmental Justice.

Project Background

The Link US Project would improve operational flexibility and expand capacity at Los Angeles Union Station (LAUS). FRA and Caltrans first studied potential capacity improvements in a 2002 EIS/EIR known as the Run-Through Tracks Project. In 2005, FRA issued a Final EIS and Caltrans certified the Final EIR for the Run-Through Tracks Project. Since 2005, Metro identified new components and changes to the local and regional operational and capacity requirements at LAUS. The following new components and changed circumstances now need to be studied in the Link US Project EIS/EIR:

• Coordinated activities between Metro and the California High-Speed Rail Authority (CHSRA) to facilitate the planned High Speed Rail (HSR) system;

• A new passenger concourse as a component of the LAUS Master Plan (LAUSMP). The passenger concourse will include new vertical circulation elements (stairs, escalators, and elevators) and up to 600,000 square feet dedicated for passenger circulation and waiting areas, passenger support functions and amenities (up to 100,000 square feet), and building functional support areas to meet the demands of a multi-modal transit station;

• Integration of run-through tracks on an elevated rail yard to accommodate the new passenger concourse, consistent with the LAUSMP;

• Incorporation of a single loop track;

• Compatibility with other planned or completed Metro and public projects;

• Property ownership and valuation changes; and

• Land use changes since 2005 within the study area.

FRA and Metro will prepare the Link US Project EIS/EIR to analyze these new components and address the changed circumstances.

Project Location

LAUS is located at 800 North Alameda Street, City of Los Angeles, California 90012. LAUS is generally bounded by U.S. Highway 101 (U.S. 101) to the south, Alameda Street to the west, Cesar E. Chavez Avenue to the north, and Vignes Street to the east and is located in an urban setting, northeast of downtown Los Angeles and west of the Los Angeles River. The Link US Project limits within the railroad corridor extend from Control Point (CP) Chavez in the north (near North Main Street) to CP Olympic in the south (near the Interstate 10/State Route 60/U.S. 101 interchange).

Project Need

LAUS is a stub-ended terminal station dating from 1939 that is the central hub for regional transportation in Southern California. Metro operates multiple modes of transit including bus, subway (Red and Purple Lines), and light rail transit (Gold Line) at LAUS. Metrolink (the commuter rail operator governed by the Southern California Regional Rail Authority (SCRRA)) and Amtrak are responsible for operating commuter and intercity rail services, respectively, and maintaining a safe and reliable level of service on existing rail lines, including the Los Angeles-San Diego-San Luis Obispo railroad corridor (primarily commuter ridership). CHSRA is responsible for construction and operation of a statewide HSR system in California. FRA and CHSRA are preparing NEPA/CEQA documents for the Burbank to Los Angeles and Los Angeles to Anaheim sections of the HSR System both of which include a common station at LAUS, including consideration of an at-grade concept. However, LAUS's operational functionality is becoming increasingly limited due to a forecasted increase in ridership on multiple transit and rail lines and the potential for new passenger rail and HSR service in the future.

Between 2000 and 2014, the population in the Southern California Association of Governments (SCAG) region increased by 2 million people (approximately 12.3 percent increase). By 2040, employment and population growth within the SCAG region is forecasted to increase by 16 percent. According to a 2015Metro Transforming LAUS Summary Report about LAUS, there are approximately 110,000 passenger trips travelling through LAUS each weekday. Metro anticipates continued increases in population and employment will nearly double the demand on existing and planned modes of transportation; resulting in over 200,000 passenger trips through LAUS each weekday by 2040.

By 2030, Metrolink and Amtrak anticipate they will need to nearly double the number of overall train operations to provide additional commuter and intercity passenger service throughout the region. This includes an increase in “through” trains between Los Angeles and San Diego making all stops; an increase in commuter and intercity passenger service to Ventura and Santa Barbara counties; intercity passenger service to San Luis Obispo; and the addition of a “through” intercity passenger service to San Francisco (California State Rail Plan, Caltrans 2013). In addition, Metro is working with the CHSRA to facilitate the planned HSR system at LAUS.

FRA and Metro have identified Link US Project as a critical transportation project to respond to the forecasted ridership increases in the region. Link US Project also represents a critical first step in the implementation of regional transportation solutions identified in the following SCAG planning documents:

• Federally Approved Transportation Improvement Program, (2015);

• Regional Comprehensive Plan and Guide (2008); and

• Regional Transportation Plan and Sustainable Communities Strategy (2016).

Project Purpose and Objectives

Due to the forecasted increase in ridership on existing transit and rail modes combined with the potential for new passenger rail and HSR service in the future, the overall purpose of the Link US Project is to improve the functionality and operational capacity of LAUS in a cost-effective manner while maintaining existing transit/rail operations during construction. Metro is also working with the CHSRA to facilitate the planned HSR system at LAUS within the limits of the Link US Project. The purpose of the Link US Project is to improve mobility, travel times, and safety in the following ways:

• Improve operational efficiencies and scheduling reliability for trains using LAUS by reducing the train movement constraints that results from “stub-end” operation by constructing new “run-through” tracks and an operational loop;

• Improve pedestrian access to, and functionality of, the passenger platforms while also improving connectivity with other transit serving amenities (retail, food service, and waiting areas) by expanding the passenger concourse;

• Increase the operational capacity of LAUS by over 40 percent to accommodate planned growth of Metrolink and Amtrak train services, and potential HSR service, while not precluding other planned improvements at LAUS by developing an expanded passenger concourse located below the elevated platforms;

• Preserve space and connections for future rail and transit options, including potential HSR service;

• Enhance accessibility to all transit and rail services for passengers with disabilities;

• Minimize service disruptions to existing transit service during construction; and

• Minimize adverse effects to the environment, including historic properties listed on the National Register of Historic Places.

The Link US Project would also reduce greenhouse gas emissions by over 40 percent and thereby meet the air pollution and greenhouse gas emission reduction targets mandated by California Assembly Bill 32, known as the Global Warming Solutions Act of 2006, as amended, and California Senate Bill 375, known as the California's Sustainable Communities and Climate Protection Act of 2008. These two laws establish the basis for SCAG and Metro to accommodate regional growth through increased and more frequent access to alternative modes of transit for local communities.

Proposed Project Alternatives

The Link US Project would transform LAUS from a “stub-end tracks station” into a “run-through tracks station” while increasing operational capacity to meet the demands of the broader rail system. The EIS/EIR will consider the No Action/No Build Alternative and a number of Build Alternatives.

Each of the Build Alternatives would result in enhanced operational capacity from CP Chavez in the north (near North Main Street) to CP Olympic in the south (near the Interstate 10/State Route 60/U.S. 101 interchange). Major project components are described below.

• Throat and Elevated Rail Yard—The Link US Project would include new track and subgrade improvements to increase the elevation of the tracks leading to LAUS known as the “throat” and an elevated rail yard including new longer, elevated passenger platforms and canopies.

• New Passenger Concourse—The Link US Project would include a new passenger concourse, up to 600,000 square feet (passenger circulation and waiting areas, passenger support functions and amenities, and building functional support areas), including 100,000 square feet of transit serving amenities to meet the demands of a multi-modal transit station. The new passenger concourse would enhance ADA accessibility at LAUS and include new vertical circulation elements (stairs, escalators, and elevators) for passengers between the elevated platforms and the new passenger concourse under the rail yard.

• Run-Through Tracks—The Link US Project would include up to 10 run-through tracks with a new viaduct or viaducts over U.S. 101 that extend run-through tracks for regional/intercity rail (Metrolink/Amtrak) and potentially HSR south along the west bank of the Los Angeles River, and a separate overhead viaduct for a single loop track turning north to the existing Keller Yard.

The Link US Project would also require modifications to existing bridges at city streets to accommodate new elevated tracks; modifications to U.S. 101 and local streets to accommodate the run-through tracks overhead viaducts; railroad signal, Positive Train Control, and communications-related improvements; modifications to the SCRRA West Bank main line tracks; modifications to the existing Keller Yard and BNSF Railway West Bank Yard; modifications to the Amtrak lead track; new access roadways to the railroad right-of-way (ROW); additional ROW; and utility relocations, replacements, and abandonments.

Probable Effects

The EIS/EIR will consider the potential environmental effects of the Link US Project alternatives in detail. FRA and Metro will analyze the following environmental issue areas in the EIS/EIR: Air Quality and Global Climate Change; Biological and Wetland Resources; Cultural and Historic Resources; Economic and Fiscal Impacts; Energy; Environmental Justice; Floodplains, Hydrology, and Water Quality; Geology, Soils, and Seismicity; Hazardous Waste and Materials; Land Use, Planning, and Communities; Noise and Vibration; Parklands, Community Services, and Other Public Facilities; Safety and Security; Section 4(f) Resources; Transportation; and Visual Quality and Aesthetics.

Scoping and Comments

FRA encourages broad participation in the EIS process during scoping and review of the resulting environmental documents. FRA invites all interested agencies, Native American Tribes, and the public at large to participate in the scoping process to ensure the EIS/EIR addresses the full range of issues related to the proposed action, reasonable alternatives are addressed, and all significant issues are identified. FRA requests that any public agency having jurisdiction over an aspect of the Link US Project identify the agency's permit or environmental review requirements and the scope and content of the environmental information germane to the agency's jurisdiction over the Link US Project. FRA requests that public agencies advise FRA if they anticipate taking a major action in connection with the proposed project and if they wish to cooperate in the preparation of the Link US Project EIS/EIR.

FRA will coordinate with participating agencies during development of the Draft EIS under 23 U.S.C. 139. FRA will invite all Federal and non-Federal agencies and Native American Tribes that may have an interest in the Link US Project to become participating agencies for the EIS. If an agency or Tribe is not invited and would like to participate, please contact FRA at the contact information listed above. FRA will develop a Coordination Plan summarizing how it will engage the public, agencies, and Tribes in the process. The Coordination Plan will be posted to the Link US Project Web site metro.net/projects/regionalrail/scrip and to FRA's Web site fra.dot.gov.

FRA and Metro have scheduled a public scoping meeting as an important component of the scoping process for both the state and Federal environmental review. The scoping meeting described in the ADDRESSES section will also be advertised locally and included in additional public notification. The format of the meeting will consist of a short presentation describing the proposed Link US Project, objectives, and existing conditions.

Issued in Washington, DC on May 26, 2016.
Jamie Rennert,
Director, Office of Program Delivery.

[FR Doc. 2016-12813 Filed 5-26-16; 11:15 am]

BILLING CODE 4910-06-P